DEPARTMENT OF HEALTH AND HUMAN SERVICES

Centers for Disease Control and Prevention

Request for Nominations of Candidates To Serve on the Advisory Committee to the Director, Centers for Disease Control and Prevention (ACD, CDC)—Health Disparities Subcommittee (HDS)

The Centers for Disease Control and Prevention (CDC) is soliciting nominations for possible membership on the ACD, CDC-HDS. This subcommittee consists of up to 16 experts in fields related to health policy, public health, global health, preparedness, preventive medicine, the faith-based and community-based sector, and allied fields who are selected by the CDC. The HDS provides interdisciplinary perspectives and subject matter expertise to the goal of reducing health disparities which may include research, program and policy analyses, and other developmental activities for the ACD, CDC on CDC's efforts to address health disparities which is integral to achieving the agency's overarching health impact goals. Specifically, the HDS will submit work products to the ACD, CDC for deliberation, discussion, and decision.

Nominations are being sought for individuals who have expertise and qualifications necessary to contribute to the accomplishment of the subcommittee's mission. Nominees will be selected by the Designated Federal Officer of the ACD, CDC. Members may be invited to serve for terms of up to three years.

The U.S. Department of Health and Human Services policy stipulates that committee membership shall be balanced in terms of professional training and background, points of view represented, and the committee's function. Appointments shall be made without discrimination on the basis of age, race, ethnicity, gender, sexual orientation, gender identity, HIV status, disability, and cultural, religious, or socioeconomic status. Nominees must be U.S. citizens, and cannot be full-time employees of the U.S. Government. Current participation on federal workgroups or prior experience serving on a federal advisory committee does not disqualify a candidate; however, HHS policy is to avoid excessive individual service on advisory committees and multiple committee memberships. Subcommittee members are Special Government Employees, requiring the filing of financial disclosure reports at the beginning and annually during their terms.

Note that the need for different expertise varies from year to year and a candidate who is not selected in one year may be reconsidered in a subsequent year.

Nominees must be U.S. citizens, and cannot be full-time employees of the U.S. Government. Candidates should submit the following items:

Current curriculum vitae, including complete contact information (telephone numbers, mailing address, email address).

At least one letter of recommendation from person(s) not employed by the U.S. Department of Health and Human Services. (Candidates may submit letter(s) from current HHS employees if they wish, but at least one letter must be submitted by a person not employed by an HHS agency (e.g., CDC, NIH, FDA, etc.).

Nomination materials must be date stamped by midnight on September 30, 2016 and sent to: ACDirector@cdc.gov or to Tracie Strength, Office of the Chief of Staff, Centers for Disease Control and Prevention, 1600 Clifton Road NE., Mailstop D14, Atlanta, Georgia 30329. Please direct questions to Tracie Strength at (404)498-6482.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention (CDC).

[FR Doc. 2016-21039 Filed 8-31-16; 8:45 am]

BILLING CODE 4163-18-P